DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Alton and Southern Railway

[Waiver Petition Docket Number FRA-2007-27320]

The Alton and Southern Railway (ALS), a wholly-owned subsidiary of the Union Pacific Railroad (UP), has petitioned FRA for a temporary waiver of compliance with certain provisions of FRA safety regulations (hours of service of railroad employees). The waiver request seeks relief from 49 CFR Section 228.9(a)(1) for the ALS to utilize a computerized system of recording train and engine employee hours of duty data. The CFR requires that records maintained under Section 228.9(a)(1) be signed by the employee whose time is being recorded, or in the case of train and engine crews, signed by the ranking crew member. The ALS seeks to utilize a computerized system of recording hours of duty information that is currently being used by the UP. Without waiver permission, the record produced by the program would not comply with Section 228(a)(1) requirements for a “signature” of the employee or ranking crew member. The ALS proposes that each employee will have his or her own identification number (ID) and personal identification number (PIN). The PIN will remain confidential to the employee. The employee ID and PIN will be used to restrict access to a job or train reporting screen to only the employee or ranking crew member of that specific job or train. After entering the appropriate data, the employee will be asked to “certify” his or her entries. When certified, the data entered by the employee will be electronically stamped by the computer with the entering employee's ID and the date and time of certification. The employee's certified record will then be available through the FRA inspection screen and will display the employee's ID along with the date and time of certification. The ALS proposes replacing the current manually signed paper record with a printable copy of the employee's entered data showing the date, time and ID of entering employee.

The ALS warrants that the program to be used is a copy of the program approved for use by UP under a current waiver of compliance. The ALS maintains that the change is in the best interests of all parties in that it will reduce unnecessary paperwork and the costs associated therewith while providing the railroad, its employees, and FRA with a superior level of information on a more timely basis than is currently available.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number FRA-2007-27320) and must be submitted to the Docket Clerk, DOT Central Docket Management Facility, Room PL-401, 400 7th Street, NW., Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on April 20, 2007.
Michael J. Logue,
Deputy Associate Administrator for Safety Compliance and Program Implementation.

[FR Doc. E7-8023 Filed 4-25-07; 8:45 am]

BILLING CODE 4910-06-P